ENVIRONMENTAL PROTECTION AGENCY

[ER-FRL-6638-5]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7153.

An explanation of the ratings assigned to draft environmental impact statements (EISs) was published in the Federal Register dated April 12, 2003 (67 FR 17992).

Draft EISs

ERP No. D-AFS-J65372-CO Rating EC2, Trout-West Hazardous Fuels Reduction Project, Proposed Action to Reduce Fuels, Pike-San Isabel National Forest, Trout and West Creek Watersheds, Teller, El Paso and Douglas Counties, CO.

Summary: EPA expressed environmental concerns about impacts to aquatic resources, including 303(d)-listed streams. EPA recommended mitigation measures to improve impaired conditions in these streams with protecting structures and allowing timber harvest and other fuels treatment in designated high-value management areas.

ERP No. D-AFS-L65410-ID Rating EC2, Gaylord North Timber Sale Project, Harvesting Timber, Council Ranger District, Payette National Forest, Adam County, ID.

Summary: EPA expressed environmental concerns with the lack of substantive differences between the alternatives and that road closures and decommissioning should better meet Forest Plan road density standards for wildlife. EPA requested the FEIS include more detail on the management of closed roads and present a clearer analysis of cumulative impacts including comparison of predicted impacts to established resource threshold.

ERP No. D-NPS-L65413-WA Rating NS, Fort Vancouver National Historic Site, General Management Plan and Development Concept Plans, Implementation, Oregon County, WA.

Summary: EPA Region 10 used a screening tool to conduct a limited review of this action. Based upon the screen, EPA does not foresee having any environmental objections to the proposed project.

Final EISs

ERP No. F-AFS-D65014-00, American Electirc Power 765 kV Transmission Line Construction, Operation and Maintenance, Wyoming Station to Cloverdale Station, Special Use Permit Issuance and Right-of-Way Grants Federal and Non-Federal Lands, George Washington and Jefferson National Forests, several counties, WV and VA.

Summary: EPA expressed environmental concerns from impacts to water quality and natural resources on federal lands from construction and maintenance of 11 miles of transmission line. Described measures to avoid and minimize impacts should continue through the final stages of the project.

ERP No. F-SFW-L02029-AK, Swanson River Satellites Natural Gas Exploration and Development Project, Evaluation of a Right-of-Way Permit Application and U.S. Army COE Section 404 and NPDES Permits Issuance, Kenai National Wildlife Refuge, Kenai Peninsula, AK.

Summary: No formal comment letter was sent to the preparing agency.

ERP No. FS-BLM-K67011-NV, Betze-Post Project, Updated Information concerning Dewatering Operations and Additional Underground Pipeline Construction, Elko and Eureka Counties, NV.

Summary: EPA expressed continuing environmental concerns regarding the potential ecological risks to biological resources from the project and adverse impacts to water quality, including levels of selenium. EPA recommended additional analysis of cumulative impacts and additional mitigation measures.

Dated: March 11, 2003.
Joseph C. Montgomery,
Director, NEPA Compliance Division, Office of Federal Activities.

[FR Doc. 03-6196 Filed 3-13-03; 8:45 am]

BILLING CODE 6560-50-P